DEPARTMENT OF ENERGY

Federal Energy Regulatory Commission

[Project No. 1256-031]

Loup River Public Power District; Notice of Teleconference

a. Date and Time of Meeting: Wednesday, August 13, 2014 at 10:00 a.m. (Eastern Daylight Time).

b. FERC Contact: Isis Johnson, Phone: (202) 502-6346, Email: isis.johnson@ferc.gov.

c. Purpose of Meeting: To discuss the U.S. Fish and Wildlife Service's response to Commission staff's June 4, 2014 request to initiate formal consultation on the determinations of effect for federally listed species. These effects are described in the Draft Environmental Assessment for the Loup River Hydroelectric Project, issued on May 22, 2014.

d. Proposed Agenda:

1. Introductions

2. Discussion of the Environmental Baseline

3. Clarification of Project Effects Comments

4. Questions

5. Summary

e. All local, state, and federal agencies, Indian tribes, and other interested parties are invited to participate by phone. Please call Isis Johnson at (202) 502-6346 by August 11, 2014, to RSVP and to receive specific instructions on how to participate.

Dated: July 28, 2014.
Kimberly D. Bose,
Secretary.

[FR Doc. 2014-18190 Filed 7-31-14; 8:45 am]

BILLING CODE 6717-01-P